FEDERAL DEPOSIT INSURANCE CORPORATION

12 CFR Part 327

RIN 3064-AD66

Assessments, Large Bank Pricing

AGENCY: Federal Deposit Insurance Corporation (FDIC).

ACTION: Notice of proposed rulemaking; correction.

SUMMARY: This document corrects the preamble to a proposed rule published in the Federal Register of November 24, 2010, regarding Assessments, Large Bank Pricing. This correction clarifies that the comment period for the Assessments, Large Bank Pricing ends January 3, 2011.

FOR FURTHER INFORMATION CONTACT: Lisa Ryu, Chief, Large Bank Pricing Section, Division of Insurance and Research, (202) 898-3538; Christine Bradley, Senior Policy Analyst, Banking and Regulatory Policy Section, Division of Insurance and Research, (202) 898-8951; Brenda Bruno, Senior Financial Analyst, Division of Insurance and Research, (630) 241-0359 x 8312; Robert L. Burns, Chief, Exam Support and Analysis, Division of Supervision and Consumer Protection (704) 333-3132 x 4215; Christopher Bellotto, Counsel, Legal Division, (202) 898-3801; Sheikha Kapoor, Counsel, Legal Division, (202) 898-3960.

Correction

In proposed rule FR Doc. 2010-29138, beginning on page 72612 in the issue of November 24, 2010, make the following correction, the DATES section is corrected to read:

``DATES: Comments must be received on or before January 3, 2011.''

Dated: November 24, 2010.
Federal Deposit Insurance Corporation,
Robert E. Feldman,
Executive Secretary.

[FR Doc. 2010-30077 Filed 11-29-10; 8:45 am]

BILLING CODE 6741-01-P